SMALL BUSINESS ADMINISTRATION

Revocation of License of Small Business Investment Company

Pursuant to the authority granted to the United States Small Business Administration by the Wind-Up Order of the United States District Court for the Southern District of Texas, entered May 21, 2014, the United States Small Business Administration hereby revokes the license of Sundance Venture Partners, L.P., a Delaware Limited Partnership, to function as a small business investment company under the Small Business Investment Company License No. 09/09-0387 issued to Sundance Venture Partners, L.P., on April 23, 1990, and said license is hereby declared null and void as of May 21, 2014.

United States Small Business Administration.
Dated: October 24, 2014.
Javier E. Saade,
Associate Administrator for Investment.

[FR Doc. 2014-26680 Filed 11-10-14; 8:45 am]

BILLING CODE 8025-01-P